DEPARTMENT OF TRANSPORTATION

Federal Highway Administration

Environmental Impact Statement: Albany County, NY

AGENCY: Federal Highway Administration (FHWA), DOT

ACTION: Notice of intent.

SUMMARY: The FHWA is issuing this notice to advise the public that an environmental impact statement will be prepared for a proposed highway project in the Town of Bethlehem, Albany County, New York.

FOR FURTHER INFORMATION CONTACT:

Thomas C. Werner, Regional Director, New York State Department of Transportation, 84 Holland Avenue, Albany, New York 12208, Telephone: (518) 474-6178

or

Harold J. Brown, Division Administrator, Federal Highway Administration, New York Division, Leo W. O'Brien Federal Building, 9th Floor, Clinton Avenue and North Pearl Street, Albany, New York 12207, Telephone: (518) 431-4127.

SUPPLEMENTARY INFORMATION: The FHWA, in cooperation with the New York State Department of Transportation (NYSDOT) will prepare an environmental impact statement (EIS) on a proposal to improve State Route 85 in the Town of Bethlehem, Albany County, New York. The proposed improvement will involve the construction and rehabilitation of the existing route from the vicinity of its intersection with Route 140, to the Albany City Line, a distance of about 2.6 miles. Improvements to the highway are necessary to address identified transportation problems within the corridor and to accommodate the existing and projected traffic demands. In addition to the highway improvements, the project may include the widening of the existing Route 85 bridge over the Normanskill or the construction of a new parallel structure, and the rehabilitation or replacement of the existing Route 85 structure over the Thruway and the construction of a new parallel structure over the New York State Thruway.

Alternatives under consideration include (1) taking no action; (2) construction of a two lane limited access highway on new location from the Route 140 intersection to the vicinity of the existing Route 85 over Normanskill bridge (effectively extending the existing two lane facility); (3) providing a four lane facility by the construction of a new four lane limited access highway on new location from the Route 140 intersection to the vicinity of the existing Route 85 bridge over the Normanskill and then the construction of two additional lanes parallel to the existing two lane limited access highway to the vicinity of the Albany City Line. Incorporated into and studied with the various build alternatives will be design variations of grade, alignment, and local access.

Letters describing the proposed action and soliciting comments will be sent to appropriate Federal, State, and local agencies, and to private organizations and citizens who have previously expressed interest in this proposal. No formal Scoping Meeting is planned at this time. A public information meeting will be held after additional study. After the Draft Environmental Impact Statement (DEIS) is prepared, it will be made available for agency and public review and comment. In addition, a public hearing will be held for which a public notice will be given of the time and place of the hearings.

To ensure that the full range of issues related to this proposed action are addressed and all significant issues identified, comments and suggestions are invited from all interested parties. Comments or questions concerning this proposed action and the EIS should be directed to the NYSDOT or FHWA at the addresses provided above.

(Catalog of Federal Domestic Assistance Program Number 20.205, Highway Research, Planning and Construction. The regulations implementing Executive Order 12372 regarding intergovernmental consultation on Federal programs and activities apply to this program)

Authority: 23 U.S.C. 315; 23 U.S.C. 771.123

Issued on: June 29, 2000.
Douglas P. Conlan,
District Engineer, Federal Highway Administration, Albany, New York.

[FR Doc. 00-17220 Filed 7-6-00; 8:45 am]

BILLING CODE 4910-22-M